DEPARTMENT OF COMMERCE

National Oceanic and Atmospheric Administration

[Docket No. 030602141-3284-05; I.D. 061703A]

RIN 0648-ZB55

Availability of Grants Funds for Fiscal Year 2004

AGENCY: National Marine Fisheries Service (NMFS), National Oceanic and Atmospheric Administration (NOAA), Department of Commerce.

ACTION: Notice; extension of application deadline.

SUMMARY: The National Oceanic and Atmospheric Administration, National Marine Fisheries Service publishes this notice to extend the solicitation period on a notice inviting the public to submit proposals for available funding for the Chesapeake Bay Fisheries Research Program, which funds projects that support research, monitoring, modeling and management addressing various aspects of Chesapeake Bay fisheries, published on Friday, October 17, 2003. NOAA extends the solicitation period by 11 days to provide the public more time to submit proposals. The new deadline for the receipt of proposals is December 12, 2003. All other requirements for this solicitation remain the same.

DATES: Applications must be received by 5 p.m. eastern daylight savings time on December 12, 2003. Originally, the application deadline was published on October 17, 2003 (68 FR 59778).

ADDRESSES: The address for submitting Proposals electronically is: http://www.grants.gov/. (Electronic submission is encouraged). Paper applications must be mailed to the following address: Derek M. Orner, NOAA Chesapeake Bay Office, 410 Severn Avenue, Suite 107A, Annapolis, MD 21403.

FOR FURTHER INFORMATION CONTACT: For further information, contact Derek M. Orner, NOAA Chesapeake Bay Office,410 Severn Avenue, Suite 107A, Annapolis, MD 21403, or by phone at 410-267-5676, or fax to 410-267-5666, or via Internet at derek.orner@noaa.gov.

Dated: November 20, 2003.
John Oliver,
Deputy Assistant Administrator for Operations, National Marine Fisheries Service.

[FR Doc. 03-29599 Filed 11-25-03; 8:45 am]

BILLING CODE 3510-12-S